DEPARTMENT OF THE INTERIOR

Fish and Wildlife Service

50 CFR Part 17

[FWS-R2-ES-2009-0030]

[92210-1111-FY08-B2]

Endangered and Threatened Wildlife and Plants; 90-Day Finding on a Petition to List the Northern Leopard Frog (Lithobates [=Rana] pipiens) in the Western United States as Threatened

AGENCY: Fish and Wildlife Service, Interior.

ACTION: Notice of a 90-day petition finding; reopening of the information solicitation period.

SUMMARY: We, the U.S. Fish and Wildlife Service (Service), announce the reopening of the public information solicitation period on our July 1, 2009, initiation of status review and 90-day finding on a petition to list the western U.S. population of the northern leopard frog (Lithobates [=Rana] pipiens) as threatened under the Endangered Species Act of 1973, as amended (Act). This action will provide all interested parties with an additional opportunity to submit information and materials on the status of the northern leopard frog. Information previously submitted need not be resubmitted as it has already been incorporated into the public record and will be fully considered in the 12-month finding.

DATES: We are reopening the public information solicitation period. To allow us adequate time to consider and incorporate submitted information into our review, we request that we receive information on or before November 27, 2009.

ADDRESSES: You may submit comments by any of the following methods:

• Federal eRulemaking Portal: http://www.regulations.gov. Follow the instructions for submitting comments.

• U.S. mail or hand-delivery: Public Comments Processing, Attn: FWS-R2-ES-2009-0030; Division of Policy and Directives Management; U.S. Fish and Wildlife Service; 4401 N. Fairfax Drive, Suite 222; Arlington, VA 22203.

We will post all information received on http://www.regulations.gov. This generally means that we will post any personal information you provide us (see the “Information Solicited” section below and in our original notice (74 FR 31389) for more details).

FOR FURTHER INFORMATION CONTACT: Steven L. Spangle, Field Supervisor, by U.S. mail at Arizona Ecological Services Office, U.S. Fish and Wildlife Service, 2321 West Royal Palm Drive, Suite 103, Phoenix, AZ 85021; telephone 602-242-0210; facsimile 602-242-2513. Information submitted after November 27, 2009 should be submitted to this address. If you use a telecommunications device for the deaf (TDD), please call the Federal Information Relay Service (FIRS) at 800-877-8339.

SUPPLEMENTARY INFORMATION:

Information Solicited

We, the U.S. Fish and Wildlife Service, published a 90-day finding on a petition to list the northern leopard frog as threatened in the Federal Register on July 1, 2009 (74 FR 31389). We are continuing to solicit information during this reopened information solicitation period on the status of the northern leopard frog. We request information from the public, other concerned governmental agencies, Native American Tribes, the scientific community, industry, or any other interested parties concerning the status of the northern leopard frog. We are seeking information regarding:

(1) the historical and current status and distribution of the northern leopard frog, its biology and ecology, and ongoing conservation measures for the species and its habitat, and threats to the species and its habitat;

(2) information relevant to the factors that are the basis for making a listing determination for a species under section 4(a) of the Endangered Species Act of 1973, as amended (Act) (16 U.S.C. 1531 et seq.), which are:

(a) the present or threatened destruction, modification, or curtailment of the species' habitat or range;

(b) overutilization for commercial, recreational, scientific, or educational purposes;

(c) disease or predation;

(d) the inadequacy of existing regulatory mechanisms; or

(e) other natural or manmade factors affecting its continued existence and threats to the species or its habitat; and

(3) its taxonomy (particularly genetics of the western U.S. population and of the convergence zone of the eastern and western haplotypes in Wisconsin and Ontario, Canada).

If you submitted information previously on the status of this species please do not resubmit it. This information has been incorporated into the public record and will be fully considered in the preparation of the 12-month finding. We will consider information received from all interested parties.

You may submit your information and materials concerning the 90-day finding by any of the methods listed in the ADDRESSES section. Be aware that if you submit information via http://www.regulations.gov your entire submission—including any personal identifying information—will be posted on the Web site. If your submission is made via hardcopy that includes personal identifying information, you may request at the top of your document that we withhold this information from public review. However, we cannot guarantee that we will be able to do so. We will also post all hardcopy submissions on http://www.regulations.gov. Please include sufficient information with your comments to allow us to verify any scientific or commercial information you include.

Information and materials we receive, as well as supporting documentation we used in preparing the 90-day finding for the northern leopard frog, will be available for public inspection on http://www.regulations.gov, or by appointment during normal business hours, at the U.S. Fish and Wildlife Service, Arizona Ecological Services Office (see FOR FURTHER INFORMATION CONTACT).

Background

On July 1, 2009, we published a 90-day finding on a petition to list the western U.S. population of the northern leopard frog as threatened (74 FR 31389). In that 90-day finding, we found that the petition presented substantial scientific or commercial information indicating that listing the western U.S. population of the northern leopard frog may be warranted. We also initiated a status review to determine if listing the species is warranted, and announced a 60-day public information solicitation period on the petition finding and status review, which ended on August 31, 2009.

We received multiple requests for an extension of the information solicitation period in order to allow agencies, tribes, and other interested persons the opportunity to provide additional information for our consideration during this status review. The broad geographical distribution of the western U.S. population of the northern leopard frog complicated the timely notification of interested parties. Collection of information from across the full range of the petitioned northern leopard frog population will be important for the status review and 12-month finding on the northern leopard frog.

Authority

The authority for this action is section 4 of the Endangered Species Act of 1973, as amended (16 U.S.C. 1531 et seq.).

Dated: October 20, 2009
Daniel M. Ashe,
Deputy Director, U.S. Fish and Wildlife Service.

[FR Doc. E9-25883 Filed 10-27-09; 8:45 am]

BILLING CODE 4310-55-S